DEPARTMENT OF COMMERCE

National Oceanic and Atmospheric Administration

[RTID 0648-XC775]

Pacific Fishery Management Council; Public Meetings

AGENCY: National Marine Fisheries Service (NMFS), National Oceanic and Atmospheric Administration (NOAA), Commerce.

ACTION: Notice of public meetings.

SUMMARY: The Pacific Fishery Management Council (Council) and its advisory bodies will meet March 4-10, 2023, in Seattle, WA, in person and via webinar. The Council meeting will be live streamed with the opportunity to provide public comment remotely. The following groups will meet in person in Seattle: Scientific and Statistical Committee, Salmon Technical Team, Salmon Advisory Subpanel, Enforcement Consultants, Habitat Committee, Groundfish Management Team, Groundfish Advisory Subpanel, Ecosystem Workgroup, and Ecosystem Advisory Subpanel. The Highly Migratory Species Management Team and Highly Migratory Species Management Subpanel will meet by webinar only.

DATES: The Pacific Council meeting will begin on Sunday, March 5, 2023, at 9 a.m. Pacific Standard Time (PST), reconvening at 8 a.m. on Monday, March 6 through Friday, March 10, 2023. The ancillary meetings will begin on Saturday, March 4, 2023. All meetings are open to the public, except for a Closed Session held from 8 a.m. to 9 a.m., Sunday, March 5, to address litigation and personnel matters. The Pacific Council will meet as late as necessary each day to complete its scheduled business.

ADDRESSES:

Meeting address: Meetings of the Pacific Council and its advisory entities will be held at the Doubletree by Hilton Seattle Airport, 18740 International Boulevard, Seattle, WA; telephone: (206) 246-8600.

Specific meeting information, including directions on joining the meeting, connecting to the live stream broadcast, and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Mr. Merrick Burden, Executive Director, Pacific Council; telephone: (503) 820-2280 or (866) 806-7204 toll-free, or access the Pacific Council website, www.pcouncil.org, for the proposed agenda and meeting briefing materials.

SUPPLEMENTARY INFORMATION: The March 4-10, 2023 meeting of the Pacific Council will be streamed live on the internet. The broadcasts begin initially at 9 a.m. PST Sunday, March 5, 2023, and 8 a.m. PST Monday, March 6 through Friday, March 10, 2023. Broadcasts end when business for the day is complete. Only the audio portion and presentations displayed on the screen at the Pacific Council meeting will be broadcast. The audio portion for the public is listen-only except that an opportunity for oral public comment will be provided prior to Council Action on each agenda item. Additional information and instructions on joining or listening to the meeting can be found on the Pacific Council's website (see www.pcouncil.org).

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, and advisory entity meeting times, are described in Agenda Item A.3, Proposed Council Meeting Agenda, and will be in the advance March 2023 briefing materials and posted on the Pacific Council website at www.pcouncil.org no later than Friday, February 17, 2023.

A. Call to Order

1. Opening Remarks

2. Roll Call

3. Approve Agenda

4. Executive Director's Report

B. Open Comment Period

1. Comments on Non-Agenda Items

C. Pacific Halibut Management

1. Annual Report of the International Pacific Halibut Commission (IPHC)

2. Incidental Catch Recommendations: Options for Salmon Troll and Final Action on Recommendations for Fixed Gear Sablefish Fisheries

D. Salmon Management

1. National Marine Fisheries Service Report

2. Review of 2022 Fisheries and Summary of 2023 Stock Forecasts

3. Identify Management Objectives and Preliminary Definition of 2023 Management Alternatives

4. Recommendations for 2023 Management Alternative Analysis

5. Further Direction for 2023 Management Alternatives

6. Further Direction for 2023 Management Alternatives

7. Adopt 2023 Management Alternatives for Public Review

8. Appoint Salmon Hearing Officers

E. Habitat Issues

1. Current Habitat Issues

F. Groundfish Management

1. National Marine Fisheries Service Report

2. Implementation of the 2023 Pacific Whiting Fishery Under the U.S./Canada Agreement

3. Sablefish Pot Gear Marking—Feasibility Report

4. Non-Trawl Area Management—Final Preferred Alternative

5. Electronic Monitoring Program Changes—Final Preferred Alternative

6. Final Assessment Methodologies

7. Amendment 31 Groundfish Stock Definitions

8. Workload and New Management Measure Priorities

9. Inseason Adjustments—Final Action

G. Administrative Matters

1. United States Coast Guard (USCG) Annual Report

2. Report of the Office of National Marine Sanctuaries (ONMS)

3. Marine Planning

4. Approval of Council Meeting Record

5. Membership Appointments and Council Operating Procedures

6. Future Council Meeting Agenda and Workload Planning

H. Ecosystem

1. California Current Ecosystem Annual Report

2. Fishery Ecosystem Plan Initiative Workplan

I. Highly Migratory Species Management

1. National Marine Fisheries Service Report

2. International Management Activities

3. Drift Gillnet Hard Caps Update

Advisory Body Agendas

Advisory body agendas will include discussions of relevant issues that are on the Pacific Council agenda for this meeting and may also include issues that may be relevant to future Council meetings. Proposed advisory body agendas for this meeting will be available on the Pacific Council website, www.pcouncil.org, no later than Friday, February 17, 2023.

Schedule of Ancillary Meetings
Day 1—Saturday, March 4, 2023
Groundfish Advisory Subpanel | 8 a.m.
Groundfish Management Team | 8 a.m.
Habitat Committee | 8 a.m.
Salmon Advisory Subpanel | 8 a.m.
Salmon Technical Team | 8 a.m.
Scientific and Statistical Committee | 8 a.m.
Enforcement Consultants | 2 p.m.
Tribal Policy Group Breakout | As Necessary.
Tribal and Washington Technical Group | As Necessary.
Day 2—Sunday, March 5, 2023
California State Delegation | 7 a.m.
Oregon State Delegation | 7 a.m.
Washington State Delegation | 7 a.m.
Ecosystem Advisory Subpanel | 8 a.m.
Groundfish Advisory Subpanel | 8 a.m.
Groundfish Management Team | 8 a.m.
Habitat Committee | 8 a.m.
Salmon Advisory Subpanel | 8 a.m.
Salmon Technical Team | 8 a.m.
Scientific and Statistical Committee | 8 a.m.
Enforcement Consultants | As Necessary.
Tribal Policy Group Breakout | As Necessary.
Tribal and Washington Technical Group | As Necessary.
Day 3—Monday, March 6, 2023
California State Delegation | 7 a.m.
Oregon State Delegation | 7 a.m.
Washington State Delegation | 7 a.m.
Ecosystem Advisory Subpanel | 8 a.m.
Ad Hoc Ecosystem Workgroup | 8 a.m.
Groundfish Advisory Subpanel | 8 a.m.
Groundfish Management Team | 8 a.m.
Salmon Advisory Subpanel | 8 a.m.
Salmon Technical Team | 8 a.m.
Enforcement Consultants | As Necessary.
Tribal Policy Group Breakout | As Necessary.
Tribal and Washington Technical Group | As Necessary.
Day 4—Tuesday, March 7, 2023
California State Delegation | 7 a.m.
Oregon State Delegation | 7 a.m.
Washington State Delegation | 7 a.m.
Groundfish Advisory Subpanel | 8 a.m.
Groundfish Management Team | 8 a.m.
Highly Migratory Species Advisory Subpanel | 8 a.m. Online Only.
Highly Migratory Species Management Team | 8 a.m. Online Only.
Salmon Advisory Subpanel | 8 a.m.
Salmon Technical Team | 8 a.m.
Enforcement Consultants | As Necessary.
Tribal Policy Group Breakout | As Necessary.
Tribal and Washington Technical Group As Necessary
Day 5—Wednesday, March 8, 2023
California State Delegation | 7 a.m.
Oregon State Delegation | 7 a.m.
Washington State Delegation | 7 a.m.
Groundfish Advisory Subpanel | 8 a.m.
Groundfish Management Team | 8 a.m.
Highly Migratory Species Advisory Subpanel | 8 a.m. Online Only.
Highly Migratory Species Management Team | 8 a.m. Online Only.
Salmon Advisory Subpanel | 8 a.m.
Salmon Technical Team | 8 a.m.
Enforcement Consultants | As Necessary/Online Only.
Tribal Policy Group Breakout | As Necessary.
Tribal and Washington Technical Group | As Necessary.
Day 6—Thursday, March 8, 2023
California State Delegation | 7 a.m.
Oregon State Delegation | 7 a.m.
Washington State Delegation | 7 a.m.
Highly Migratory Species Advisory Subpanel | 8 a.m. Online Only.
Highly Migratory Species Management Team | 8 a.m. Online Only.
Salmon Advisory Subpanel | 8 a.m.
Salmon Technical Team | 8 a.m.
Enforcement Consultants | As Necessary/Online Only.
Tribal Policy Group Breakout | As Necessary.
Tribal and Washington Technical Group | As Necessary.
Day 7—Friday, March 10, 2023
California State Delegation | 7 a.m.
Oregon State Delegation | 7 a.m.
Washington State Delegation | 7 a.m.
Salmon Technical Team | 8 a.m.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 business days prior to the meeting date.

Authority: 16 U.S.C. 1801 et seq.

Dated: February 13, 2023.
Rey Israel Marquez,
Acting Deputy Director, Office of Sustainable Fisheries, National Marine Fisheries Service.

[FR Doc. 2023-03316 Filed 2-15-23; 8:45 am]

BILLING CODE 3510-22-P